DEPARTMENT OF HEALTH AND HUMAN SERVICES

Administration on Aging

Agency Information Collection Activities; Proposed Collection; Comment Request; Fourth National Survey of Older Americans Act Title III Service Recipients

AGENCY: Administration on Aging, HHS.

ACTION: Notice.

SUMMARY: The Administration on Aging (AoA) is announcing an opportunity for public comment on the proposed collection of certain information by the agency. Under the Paperwork Reduction Act of 1995 (the PRA), Federal agencies are required to publish notice in the Federal Register concerning each proposed collection of information, including each proposed extension of an existing collection of information, and to allow 60 days for public comment in response to the notice. This notice solicits comments on the information collection requirements contained in the annual consumer assessment survey which is used by AoA to measure program performance for programs funded under Title III of the Older Americans Act.

DATES: Submit written or electronic comments on the collection of information by September 27, 2005.

ADDRESSES: Submit electronic comments on the collection of information to: Cynthia.Bauer@aoa.gov. Submit written comments on the collection of information to Administration on Aging, Washington, DC 20201.

FOR FURTHER INFORMATION CONTACT: Cynthia Agens Bauer on 202-357-0145.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency request or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, AoA is publishing notice of the proposed collection of information set forth in this document. With respect to the following collection of information, AoA invites comments on: (1) Whether the proposed collection of information is necessary for the proper performance of AoA's functions, including whether the information will have practical utility; (2) the accuracy of AoA's estimate of the burden of the proposed collection of information, including the validity of the methodology and assumptions used; (3) ways to enhance the quality, utility, and clarity of the information to be collected; and (4) ways to minimize the burden of the collection of information on respondents, including through the use of automated collection techniques when appropriate, and other forms of information technology.

Fourth National Survey of Older Americans Act Title III Service Recipients—NEW—This information collection, which builds on earlier national pilot studies and performance measurement tools developed by AoA grantees in the Performance Outcomes Measures Project (POMP), is a comprehensive recipient survey which will include consumer assessment modules for the Home-delivered Nutrition Program, Congregate Nutrition Program, Transportation Services, Homemaker Services and Chore Services. Recipients of services from the National Family Caregiver Support Program will also be surveyed. Copies of the POMP instruments can be located at www.gpra.net. This information will be used by AoA to track performance outcome measures; support budget requests; comply with Government Performance and Results Act (GPRA) reporting; provide information for OMB's Program Assessment Rating Tool (PART); provide national benchmark information for POMP grantees and inform program development and management initiatives. AoA estimates the burden of this collection of information as follows:

Respondents: Individuals.

Number of Respondents: 6,000.

Number of Responses per Respondent: One.

Average Burden per Response: 30 minutes.

Total Burden: 3,000 hours.

Dated: July 26, 2005.
Josefina G. Carbonell,
Assistant Secretary for Aging.

[FR Doc. 05-15037 Filed 7-28-05; 8:45 am]

BILLING CODE 4154-01-P